DEPARTMENT OF THE INTERIOR

Fish and Wildlife Service

[80221-1113-0000-C4]

Endangered and Threatened Wildlife and Plants; Initiation of 5-Year Reviews of 58 Species in California and Nevada; Availability of Completed 5-Year Reviews in California, Nevada and Southern Oregon

AGENCY: Fish and Wildlife Service, Interior.

ACTION: Notice of initiation of 5-year reviews; availability of completed 5-year reviews.

SUMMARY: We, the U.S. Fish and Wildlife Service, initiate 5-year reviews for 58 species under the Endangered Species Act of 1973, as amended (Act). We request any new information on these species that may have a bearing on their classification as endangered or threatened (see Table 1 below). Based on the results of these 5-year reviews, we will make a finding on whether these species are properly classified under the Act. We also indicate in this notice the 5-year reviews we completed for species in California, Nevada and southern Oregon in FY 2007 and early FY 2008.

DATES: To allow us adequate time to conduct these reviews, we must receive your information no later than May 5, 2008. However, we will continue to accept new information about any listed species at any time.

ADDRESSES: For instructions on how to submit information and review the information that we receive on these species, see “Public Solicitation of New Information.”

FOR FURTHER INFORMATION CONTACT: For species-specific information, contact the appropriate person listed under “Public Solicitation of New Information.” For contact information about completed 5-year reviews, see “Completed 5-Year Reviews.” Individuals who are hearing impaired or speech impaired may call the Federal Relay Service at (800) 877-8337 for TTY assistance.

SUPPLEMENTARY INFORMATION:

Why Do We Conduct a 5-Year Review?

Under the Endangered Species Act (Act) (16 U.S.C. 1531 et seq.), we maintain a List of Endangered and Threatened Wildlife and Plants at 50 CFR 17.11 (for animals) and 17.12 (for plants) (List). We amend the List by publishing final rules in the Federal Register. Section 4(c)(2)(A) of the Act requires that we conduct a review of listed species at least once every 5 years. Section 4(c)(2)(B) requires that we determine (1) whether a species no longer meets the definition of threatened or endangered and should be removed from the List (delisted); (2) whether a species listed as endangered more properly meets the definition of threatened and should be reclassified to threatened; or (3) whether a species listed as threatened more properly meets the definition of endangered and should be reclassified to endangered. Using the best scientific and commercial data available, a species will be considered for delisting if the data substantiate that the species is neither endangered nor threatened for one or more of the following reasons: (1) The species is considered extinct; (2) the species is considered to be recovered; and/or (3) the original data available when the species was listed, or the interpretation of such data, were in error. Any change in Federal classification requires a separate rulemaking process. Therefore, we are requesting submission of any new information (best scientific and commercial data) on these species since they were originally listed or since the species' most recent status review.

Our regulations at 50 CFR 424.21 require that we publish a notice in the Federal Register announcing those species currently under review. This notice announces initiation of our active review of 58 species. This notice announces initiation of our active review of the species in Table 1.

Table 1.—Summary of Listing Information, 27 Wildlife Species and 31 Plant Species in California and Nevada
Common name | Scientific name | Status | Where listed | Final listing rule
ANIMALS
Amargosa vole | Microtus californicus scirpensis | Endangered | U.S.A. (CA) | 49 FR 45160; 11/15/1984
Arroyo (=arroyo southwestern) toad | Bufo californicus | Endangered | U.S.A. (CA), Mexico | 59 FR 64859; 12/16/1994
Ash Meadows naucorid | Ambrysus amargosus | Threatened | U.S.A. (NV) | 50 FR 20777; 05/20/1985
Bay checkerspot butterfly | Euphydryas editha bayensis | Threatened | U.S.A. (CA) | 52 FR 35366; 09/18/1987
Big Spring spinedace | Lepidomeda mollispinis pratensis | Threatened | U.S.A. (NV) | 50 FR 12298; 03/28/1995
Callippe silverspot butterfly | Speyeria callippe callippe | Endangered | U.S.A. (CA) | 62 FR 64306; 12/05/1997
Carson wandering skipper | Pseudocopaeodes eunus obscurus | Endangered | U.S.A. (CA, NV) | 67 FR 51116; 08/07/2002
Coastal California gnatcatcher | Polioptila californica californica | Threatened | U.S.A. (CA); Mexico | 58 FR 16742; 03/30/1993
Desert tortoise, Mojave population | Gopherus agassizii | Threatened | U.S.A., except in Sonoran Desert | 55 FR 12178; 04/02/1990
Light-footed clapper rail | Rallus longirostris levipes | Endangered | U.S.A (CA) | 35 FR 16047; 10/13/1970
Mission blue butterfly | Icaricia icarioides missionensis | Endangered | U.S.A (CA) | 41 FR 22041; 06/01/1976
Mount Hermon June beetle | Polyphylla barbata | Endangered | U.S.A. (CA) | 62 FR 3616; 1/24/1997
Mohave tui chub | Gila bicolor mohavensis | Endangered | U.S.A. (CA) | 35 FR 16047; 10/13/1970
Myrtle's silverspot butterfly | Speyeria zerene myrtleae | Endangered | U.S.A. (CA) | 57 FR 27848; 06/22/1992
Owen's pupfish | Cyprinodon radiosus | Endangered | U.S.A. (CA) | 32 FR 4001; 3/11/1967
Owen's tui chub | Gila bicolor snyderi | Endangered | U.S.A. (CA) | 50 FR 31592; 08/05/1985
Pahranagat roundtail chub | Gila robusta jordani | Endangered | U.S.A. (NV) | 35 FR 16047; 10/13/1970
Point Arena mountain beaver | Aplodontia rufa nigra | Endangered | U.S.A (CA) | 56 FR 64716; 12/12/1991
Quino checkerspot butterfly | Euphydryas editha quino (wrighti) | Endangered | U.S.A. (CA); Mexico | 62 FR 2313; 01/16/1997
San Bruno elfin butterfly | Callophrys mossii bayensis | Endangered | U.S.A (CA) | 41 FR 22041; 06/01/1976
San Bernardino kangaroo rat | Dipodomys merriami parvus | Endangered | U.S.A (CA) | 63 FR 51005; 09/24/1998
San Clemente sage sparrow | Amphispiza belli clementeae | Threatened | U.S.A (CA) | 42 FR 40682; 08/11/1977
Santa Cruz long-toed salamander | Ambystoma macrodactylum croceum | Endangered | U.S.A. (CA) | 32 FR 4001; 3/11/1967
Salt marsh harvest mouse | Reithrodontomys raviventris | Endangered | U.S.A. (CA) | 35 FR 16047; 10/13/1970
Shasta crayfish | Pacifastacus fortis | Endangered | U.S.A. (CA) | 53 FR 38465; 09/30/1988
Unarmored threespine stickleback | Gasterosteus aculeatus williamsoni | Endangered | U.S.A. (CA) | 35 FR 16047; 10/13/1970
Zayante band-winged grasshopper | Trimerotropis infantilis | Endangered | U.S.A. (CA) | 62 FR 3616; 01/24/1997
PLANTS
Ash Meadows milk-vetch | Astragalus phoenix | Threatened | U.S.A. (NV) | 50 FR 20777; 05/20/1985
Calistoga allocarya | Plagiobothrys strictus | Endangered | U.S.A. (CA) | 62 FR 55791; 10/22/1997
Clara Hunt's milk-vetch | Astragalus clarianus | Endangered | U.S.A. (CA) | 62 FR 55791; 10/22/1997
Clover lupine | Lupinus tidestromii | Endangered | U.S.A. (CA) | 57 FR 27848; 06/22/1992
Coastal dunes milk-vetch | Astragalus tener var. titi | Endangered | U.S.A. (CA) | 63 FR 43100; 8/12/1998
Conejo dudleya | Dudleya abramsii ssp. parva | Threatened | U.S.A. (CA) | 62 FR 4172; 01/29/1997
Cushenberry buckwheat | Eriogonum ovalifolium var. vineum | Endangered | U.S.A (CA) | 59 FR 43652; 08/24/1994
Cushenberry milk-vetch | Astragalus albens | Endangered | U.S.A (CA) | 59 FR 43652; 08/24/1994
Cushenberry oxytheca | Acanthoscyphus (Oxytheca) parishii var. goodmaniana | Endangered | U.S.A (CA) | 59 FR 43652; 08/24/1994
Fleshy owl's-clover | Castilleja campestris ssp. succulenta | Threatened | U.S.A. (CA) | 62 FR 14338; 03/26/1997
Hickman's potentilla | Potentilla hickmanii | Endangered | U.S.A. (CA) | 63 FR 43100; 08/12/1998
Ione buckwheat (incl.Irish Hill) | Eriogonum apricum (incl. var. prostratum) | Endangered | U.S.A. (CA) | 64 FR 28403; 0526/1999
Ione manzanita | Arctostaphylos myrtifolia | Threatened | U.S.A. (CA) | 64 FR 28403; 0526/1999
Kenwood Marsh checkermallow | Sidalcea oregano ssp. valida | Endangered | U.S.A. (CA) | 62 FR 55791; 10/22/1997
Large-flowered fiddleneck | Amsinckia grandiflora | Endangered | U.S.A. (CA) | 50 FR 54791; 10/22/1997
Marcescent dudleya | Dudleya cymosa ssp. marcescens | Threatened | U.S.A. (CA) | 62 FR 4172; 01/29/1997
Napa bluegrass | Poa napensis | Endangered | U.S.A. (CA) | 62 FR 55791; 10/22/1997
Nevin's barberry | Berberis nevinii | Endangered | U.S.A. (CA); Mexico | 63 FR 54956; 10/13/1998
Parish's daisy | Erigeron parishii | Threatened | U.S.A (CA) | 59 FR 43652; 08/24/1994
Peirson's milk-vetch | Astragalus magdalenae var. peirsonii | Threatened | U.S.A (CA) | 63 FR 53596; 10/06/1998
Pitkin Marsh lily | Lilium pardalinum ssp. pitkinense | Endangered | U.S.A. (CA) | 62 FR 55791; 10/22/1997
San Bernardino Mountains bladderpod | Physaria (Lesquerella) kingii | Endangered | U.S.A (CA) | 59 FR 43652; 08/24/1994
San Diego thornmint | Acanthomintha ilicifolia | Threatened | U.S.A. (CA); Mexico | 63 FR 54937; 10/13/1998
Santa Monica Mountains dudleya | Dudleya cymosa ssp. Ovatifolia | Threatened | U.S.A. (CA) | 62 FR 4172; 01/29/1997
Tiburon jewelflower | Streptanthus niger | Endangered | U.S.A. (CA) | 60 FR 6671; 02/03/1995
Tiburon mariposa lily | Calochortus tiburonensis | Threatened | U.S.A. (CA) | 60 FR 6671; 02/03/1995
Tiburon paintbrush | Castilleja affinis ssp. Neglecta | Endangered | U.S.A. (CA) | 60 FR 6671; 02/03/1995
Triple-ribbed milk-vetch | Astragalus tricarinatus | Endangered | U.S.A (CA) | 63 FR 53596; 10/06/1998
Verity's dudleya | Dudleya verityi | Threatened | U.S.A. (CA) | 62 FR 4172; 01/29/1997
Western lily | Lilium occidentale | Endangered | U.S.A. (CA, OR) | 59 FR 42171; 08/17/1994
White sedge | Carex albida | Endangered | U.S.A. (CA) | 62 FR 55791; 10/22/1997

What Information Do We Consider in the Review?

In our 5-year review, we consider all new information available at the time of the review. In conducting these reviews, we consider the best scientific and commercial data that has become available since the current listing determination or the most recent status review, such as—(A) Species biology including, but not limited to, population trends, distribution, abundance, demographics, and genetics; (B) Habitat conditions including, but not limited to, amount, distribution, and suitability; (C) Conservation measures that have been implemented that benefit the species; (D) Threat status and trends (see five factors under heading “How Do We Determine Whether a Species is Endangered or Threatened?”); and (E) Other new information, data, or corrections including, but not limited to, taxonomic or nomenclatural changes, identification of erroneous information contained in the List, and improved analytical methods.

Public Solicitation of New Information

We request any new information concerning the status of these wildlife and plant species. See “What Information Do We Consider in Our Review?” for specific criteria. If you submit information, support it with documentation such as maps, bibliographic references, methods used to gather and analyze the data, and/or copies of any pertinent publications, reports, or letters by knowledgeable sources. We specifically request information regarding data from any systematic surveys, as well as any studies or analysis of data that may show population size or trends; information pertaining to the biology or ecology of these species; information regarding the effects of current land management on population distribution and abundance; information on the current condition of habitat; and recent information regarding conservation measures that have been implemented to benefit the species. Additionally, we specifically request information regarding the current distribution of populations and evaluation of threats faced by the species in relation to the five listing factors (as defined in section 4(a)(1) of the Act) and the species' listed status as judged against the definition of threatened or endangered. Finally, we solicit recommendations pertaining to the development of, or potential updates to recovery plans and additional actions or studies that would benefit these species in the future.

Our practice is to make information, including names and home addresses of respondents, available for public review. Before including your address, telephone number, e-mail address, or other personal identifying information in your response, you should be aware that your entire submission—including your personal identifying information—may be made publicly available at any time. While you can ask us in your response to withhold your personal identifying information from public review, we cannot guarantee that we will be able to do so. We will not consider anonymous comments. To the extent consistent with applicable law, we will make all submissions from organizations or businesses, and from individuals identifying themselves as representatives or officials of organizations or businesses, available for public inspection in their entirety. Comments and materials received will be available for public inspection, by appointment, during normal business hours at the offices where the comments are submitted.

Mail or hand-deliver information on the following species to the U.S. Fish and Wildlife Service at the corresponding address below. You may also view information we receive in response to this notice, as well as other documentation in our files, at the following locations by appointment, during normal business hours.

For coastal California gnatcatcher, light-footed clapper rail, Quino checkerspot butterfly, San Bernardino kangaroo rat, San Clemente sage sparrow, Cushenbury buckwheat, Cushenbury milk-vetch, Cushenbury oxytheca, Nevin's barberry, Parish's daisy, Peirson's milk-vetch, San Bernardino Mountains bladderpod, San Diego thornmint, and triple-ribbed milk-vetch, send information to Field Supervisor, Attention: 5-Year Review, U.S. Fish and Wildlife Service, Carlsbad Fish and Wildlife Office, 6010 Hidden Valley Road, Carlsbad, CA 92011. Information may also be submitted electronically at fw8cfwocomments@fws.gov. To obtain further information, contact Scott Sobiech at the Carlsbad Fish and Wildlife Office at (760) 431-9440.

For the Amargosa vole, arroyo (= arroyo southwestern) toad, Mount Hermon june beetle, Mohave tui chub, Owens pupfish, Owens tui chub, Santa Cruz long-toed salamander, unarmored three-spine stickleback, Zayante band-winged grasshopper, coastal dunes milk-vetch, Conejo dudleya, Hickman's potentilla, marcescent dudleya, Santa Monica Mountains dudleya, and Verity's dudleya, send information to Field Supervisor, Attention: 5-Year Review, U.S. Fish and Wildlife Service, Ventura Fish and Wildlife Office, 2493 Portola Road, Suite B, Ventura, CA 93003. Information may also be submitted electronically at fw1vfwo5year@fws.gov. To obtain further information on the animal species, contact Mike McCrary at the Ventura Fish and Wildlife Office at (805) 644-1766. To obtain further information on the plant species, contact Connie Rutherford at the Ventura Fish and Wildlife Office at (805) 644-1766.

For bay checkerspot butterfly, callippe silverspot butterfly, mission blue butterfly, Myrtle's silverspot butterfly, San Bruno elfin butterfly, salt marsh harvest mouse, Shasta crayfish, Calistoga allocarya, Clara Hunt's milk-vetch, clover lupine, fleshy owl's-clover, Ione buckwheat (including Irish Hill), Ione manzanita, Kenwood Marsh checkermallow, large-flowered fiddleneck, Napa bluegrass, Pitkin Marsh lily, Tiburon jewelflower, Tiburon mariposa lily, Tiburon paintbrush and white sedge, send information to Field Supervisor, Attention: 5-Year Review, U.S. Fish and Wildlife Service, Sacramento Fish and Wildlife Office, 2800 Cottage Way, Room W-2605, Sacramento, CA 95825. Information may also be submitted electronically at fw1sfo5year@fws.gov. To obtain further information, contact Kirsten Tarp at the Sacramento Fish and Wildlife Office at (916) 414-6600.

For Ash Meadows naucorid, Big Spring spinedace, Carson wandering skipper, desert tortoise (Mohave population), Pahranagat roundtail chub, and Ash Meadows milk-vetch, send information to Field Supervisor, Attention: 5-Year Review, U.S. Fish and Wildlife Service, Nevada Fish and Wildlife Office, 1340 Financial Blvd., Suite 234, Reno, NV 89502. Information may also be submitted electronically at fw1nfwo_5yr@fws.gov. To obtain further information on Ash Meadows naucorid, Big Spring spinedace, Pahranagat roundtail chub and Ash Meadows milk-vetch, contact Janet Bair at the Southern Nevada Field at (702) 515-5230. To obtain further information on Carson wandering skipper, contact Selena Werdon at the Nevada Fish and Wildlife Office at (775) 861-6300. To obtain further information on desert tortoise, contact Roy Averill-Murray at the Nevada Fish and Wildlife Office at (775) 861-6300.

For Point Arena Mountain beaver and western lily, send information to Field Supervisor, Attention: 5-Year Review, U.S. Fish and Wildlife Service, Arcata Fish and Wildlife Office, 11655 Heindon Road, Arcata, CA 95521. Information may also be submitted electronically at fw8pamb@fws.gov for Point Arena Mountain beaver and fw8wlily@fws.gov for western lily. To obtain further information on Point Arena Mountain beaver, contact Robin Hamlin at the Arcata Fish and Wildlife Office at (707) 822-7201. To obtain further information on western lily, contact Dave Imper at the Arcata Fish and Wildlife Office at (707) 822-7201.

All electronic information must be submitted in Text format or Rich Text format. Include the following identifier in the subject line of the e-mail: Information on 5-year review for [NAME OF SPECIES], and include your name and return address in the body of your message.

How Are These Species Currently Listed?

The current listing status of species for which 5-year reviews are being initiated by this notice is identified in Table 1 above. The current status may also be found on the List, which covers all listed species, and which is available on our Internet site at http://endangered.fws.gov/wildlife.html#Species.

Definitions Related to This Notice

To help you submit information about the species we are reviewing, we provide the following definitions:

Species includes any species or subspecies of fish, wildlife, or plant, and any distinct population segment of any species of vertebrate, which interbreeds when mature;

Endangered species means any species that is in danger of extinction throughout all or a significant portion of its range; and

Threatened species means any species that is likely to become an endangered species within the foreseeable future throughout all or a significant portion of its range.

How Do We Determine Whether a Species Is Endangered or Threatened?

Section 4(a)(1) of the Act requires that we determine whether a species is endangered or threatened based on one or more of the five following factors: (A) The present or threatened destruction, modification, or curtailment of its habitat or range; (B) Overutilization for commercial, recreational, scientific, or educational purposes; (C) Disease or predation; (D) The inadequacy of existing regulatory mechanisms; or (E)Other natural or manmade factors affecting its continued existence. Section 4(b)(1)(A) of the Act requires that our determination be made on the basis of the best scientific and commercial data available.

What Could Happen as a Result of Our Review?

For each species under review, if we find new information that indicates a change in classification may be warranted, we may propose a new rule that could do one of the following: (a) Reclassify the species from threatened to endangered (uplist); (b) reclassify the species from endangered to threatened (downlist); or (c) remove the species from the List (delist). If we determine that a change in classification is not warranted, then the species will remain on the List under its current status.

Completed 5-Year Reviews

We also take this opportunity to inform the public of 39 5-year reviews that we completed in FY 2007 and early FY 2008 for species in California, Nevada, and southern Oregon. These 39 reviews can be found at http://www.fws.gov/cno/es/5yr.html. Any recommended change in listing status will require a separate rulemaking process. The table below summarizes the results of these reviews:

Table 2.—Summary of Species in California, Nevada, and Southern Oregon for Which 5-Year Reviews Were Completed in FY 2007 and Early FY 2008
Common name | Scientific name | Recommendation | Lead Fish and Wildlife Office | Contact
ANIMALS
Brown pelican | Pelecanus occidentalis | Delist | Region 2 | Steve Chambers at (505) 248-6658
California freshwater shrimp | Syncaris pacifica | No status change | Sacramento | Al Donner at (916) 414-6600
Conservancy fairy shrimp | Branchinecta conservatio | No status change | Sacramento | Al Donner at (916) 414-6600
Kern primrose sphinx moth | Euproserpinus euterpe | No status change | Sacramento | Al Donner at (916) 414-6600
Laguna Mountains skipper | Pyrgus ruralis lagunae | No status change | Carlsbad | Jane Hendron at (760) 431-9440
Longhorn fairy shrimp | Branchinecta longiantenna | No status change | Sacramento | Al Donner at (916) 414-6600
Lost River sucker | Deltistes luxatus | Downlist | Klamath Falls | Curt Mullis at (541) 885-8481
Lotis blue butterfly | Lycaeides argyrognomon lotis | No status change | Arcata
Shortnose sucker | Chasmistes brevirostris | No status change | Klamath Falls | Curt Mullis at (541) 885-8481
Tidewater goby | Eucyclogobius newberryi | Downlist | Ventura | Lois Grunwald at (805) 644-1766
Vernal pool fairy shrimp | Branchinecta lynchi | No status change | Sacramento | Al Donner at (916) 414-6600
Vernal pool tadpole shrimp | Lepidurus packardi | No status change | Sacramento | Al Donner at (916) 414-6600
PLANTS
Amargosa niterwort | Nitrophila mohavensis | No status change | Nevada | Jeannie Stafford at (775) 861-6300
Ash Meadows gumplant | Grindelia fraxino-pratensis | No status change | Nevada | Jeannie Stafford at (775) 861-6300
Ben Lomond spineflower | Chorizanthe pungens var. hartwegiana | No status change | Ventura | Lois Grunwald at (805) 644-1766
Catalina Island mountain mahogany | Cercocarpus traskiae | No status change | Carlsbad | Jane Hendron at (760) 431-9440
Chinese Camp brodiaea | Brodiaea pallida | No status change | Sacramento | Al Donner at (916) 414-6600
Chorro Creek bog thistle | Cirsium fontinale var. obispoense | No status change | Ventura | Lois Grunwald at (805) 644-1766
Eureka Valley dunegrass | Swallenia alexandrae | Delist | Ventura | Lois Grunwald at (805) 644-1766
Eureka Valley evening primrose | Oenothera avita ssp. eurekensis | Delist | Ventura | Lois Grunwald at (805) 644-1766
Greene's tuctoria | Tuctoria greenei | No status change | Sacramento | Al Donner at (916) 414-6600
Hartweg's golden sunburst | Pseudobahia bahiifolia | No status change | Sacramento | Al Donner at (916) 414-6600
Hoffman's rockcress | Arabis hoffmannii | No status change | Ventura | Lois Grunwald at (805) 644-1766
Howell's spineflower | Chorizanthe howellii | No status change | Arcata | Randy Brown at (707) 822-7201
Keck's checkermallow | Sidalcea keckii | No status change | Sacramento | Al Donner at (916) 414-6600
Mariposa pussypaws | Calyptridium pulchellum | No status change | Sacramento | Al Donner at (916) 414-6600
Orcutt's spineflower | Chorizanthe orcuttiana | No status change | Carlsbad | Jane Hendron at (760) 431-9440
Red Hills vervain | Verbena californica | No status change | Sacramento | Al Donner at (916) 414-6600
San Clemente Island broom | Lotus dendroideus ssp.traskiae | Downlist | Carlsbad | Jane Hendron at (760) 431-9440
San Clemente Island bushmallow | Malacothamnus clementinus | Downlist | Carlsbad | Jane Hendron at (760) 431-9440
San Clemente Island paintbrush | Castilleja grisea | Downlist | Carlsbad | Jane Hendron at (760) 431-9440
San Clemente Island woodland star | Lithophragma maximum | No status change | Carlsbad | Jane Hendron at (760) 431-9440
San Joaquin adobe sunburst | Pseudobahia peirsonii | No status change | Sacramento | Al Donner at (916) 414-6600
Santa Barbara Island live-forever | Dudleya traskiae | No status change | Ventura | Lois Grunwald at (805) 644-1766
Santa Cruz Island bushmallow | Malacothamnus fasciculatus var. nesioticus | No status change | Ventura | Lois Grunwald at (805) 644-1766
Santa Rosa Island manzanita | Arctostaphylos confertiflora | No status change | Ventura | Lois Grunwald at (805) 644-1766
Showy Indian clover | Trifolium amoenum | No status change | Sacramento | Al Donner at (916) 414-6600
Soft-leaved paintbrush | Castilleja mollis | No status change | Ventura | Lois Grunwald at (805) 644-1766
Yreka phlox | Phlox hirsuta | No status change | Yreka | Matt Baun or Nadine Kanim at (530) 842-5763

Authority: This document is published under the authority of the Endangered Species Act of 1973, as amended (16 U.S.C. 1531 et seq.).

Dated: February 27, 2008.
Ken McDermond,
Regional Director, Region 8, U.S. Fish and Wildlife Service.

[FR Doc. E8-4258 Filed 3-4-08; 8:45 am]

BILLING CODE 4310-55-P